GENERAL SERVICES ADMINISTRATION

Maximum Per Diem Rates for Kentucky, North Carolina, Ohio, and Virginia

AGENCY: Office of Governmentwide Policy, General Services Administration (GSA).

ACTION: Notice of Per Diem Bulletin 03-1, revised continental United States (CONUS) per diem rates.

SUMMARY: To improve the ability of the per diem rates to meet the lodging demands of Federal travelers to high cost travel locations, the General Services Administration (GSA) has integrated the contracting mechanism of the new Federal Premier Lodging Program (FPLP) into the per diem rate-setting process. An analysis of FPLP contracting actions and the lodging rate survey data reveals that the maximum per diem rate should be adjusted to provide for the reimbursement of Federal employees' lodging expenses covered by the per diem. This notice announces the new per diem rates for Kentucky, North Carolina, Ohio, and Virginia.

DATES: This notice is effective May 27, 2003.

FOR FURTHER INFORMATION CONTACT: For clarification of content, contact Joddy P. Garner, Office of Governmentwide Policy, Travel Management Policy, at (202) 501-4857. Please cite Notice of Per Diem Bulletin 03-1.

SUPPLEMENTARY INFORMATION:

A. Background

In the past, properties in high cost travel areas have been under no obligation to provide lodging to Federal travelers at the prescribed per diem rate. Thus, GSA established the FPLP to contract directly with properties in high cost travel markets to make available a set number of rooms to Federal travelers at contract rates. FPLP contract results along with the lodging survey data are integrated together to determine reasonable per diem rates that more accurately reflect lodging costs in these areas. In addition, the FPLP will enhance the Government's ability to better meet its overall room night demand, and allow travelers to find lodging close to where they need to conduct business. After an analysis of this additional data, the maximum lodging amounts published in the Federal Register at 67 FR 56160, August 30, 2002 and amended at 67 FR 69634, November 18, 2002, are being changed in the following locations:

State of Kentucky

• Cities of Hebron/Florence/Covington, including Boone and Kenton Counties

State of North Carolina

• City of Chapel Hill, including Orange County.

• City of Raleigh, including Wake County.

• Cities of Research Triangle Park/Durham, including Durham County.

State of Ohio

• City of Cincinnati, including Hamilton and Warren Counties.

State of Virginia

• City of Colonial Heights (independent city).

• City of Hopewell (independent city).

• City of Petersburg (independent city).

• Prince George County.

• City of Richmond (independent city, but includes Chesterfield and Henrico Counties, also Defense Supply Center).

B. Change in Standard Procedure

Since per diem rates frequently change, effective April 28, 2003 (see 68 FR 22314, April 28, 2003), the Office of Governmentwide Policy (OGP), GSA, will issue/publish the CONUS per diem rates, formerly published in appendix A to 41 CFR chapter 301, solely on the Internet at http://www.gsa.gov/perdiem. This new process will ensure more timely increases or decreases in per diem rates established by GSA for Federal employees on official travel within CONUS. This notice advises agencies of revisions in per diem rates prescribed by OGP for CONUS. Notices published periodically in the Federal Register, such as this one, now constitute the only notification of revisions in CONUS per diem rates to agencies.

Dated: May 2, 2003.
G. Martin Wagner,
Associate Administrator.

[FR Doc. 03-11529 Filed 5-8-03; 8:45 am]

BILLING CODE 6820-14-P